DEPARTMENT OF COMMERCE

National Oceanic and Atmospheric Administration

[I.D. 081706C]

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Plan Team will meet in Anchorage, AK.

DATES: The meeting will be held on September 13, 14 and 15, 2006. See SUPPLEMENTARY INFORMATION for specific times.

ADDRESSES: The meeting will be held at the Captain Cook Hotel, Quadrant Room, 4th and K Street, Anchorage, AK.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The meeting will be held on Wednesday, September 13, from 9 a.m. to 5 p.m., Thursday, September 14, from 9 a.m. to 5 p.m., and Friday, September 15, from 9 a.m. to 2 p.m.

The agenda includes the following: Review crab overfishing definitions; review NMFS and Alaska Department of Fish & Game (ADF&G) surveys; review model and assessment results from Bristol Bay Red King Crab and Bering Sea Snow Crab; review and compile the Stock Assessment Fishery Evaluation Report; make recommendations on crab bycatch and Essential Fish Habitat considerations; discuss issues and timing for May 2007 meetings; other business.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: August 18, 2006.
Tracey L. Thompson,
Acting Director, Office of Sustainable Fisheries, National Marine Fisheries Service.

[FR Doc. E6-13990 Filed 8-23-06; 8:45 am]

BILLING CODE 3510-22-S